DEPARTMENT OF HOMELAND SECURITY

Federal Emergency Management Agency

[Docket ID FEMA-2018-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: January 25, 2018.
Roy E. Wright,
Deputy Associate Administrator for Insurance and Mitigation, Department of Homeland Security, Federal Emergency Management Agency.

State and county | Location and case No. | Chief executive officer of community | Community map repository | Date of modification | Community No.
Colorado:
Douglas (FEMA Docket No.: B-1758) | Town of Castle Rock (17-08-0108P) | The Honorable Jennifer Green, Mayor, Town of Castle Rock, 100 North Wilcox Street, Castle Rock, CO 80104 | Water Department, 175 Kellogg Court, Castle Rock, CO 80109 | Dec. 29, 2017 | 080050
Weld (FEMA Docket No.: B-1758) | Unincorporated areas of Weld County (17-08-1017X) | The Honorable Julie Cozad, Chair, Weld County Board of Commissioners, P.O. Box 758, Greeley, CO 80632 | Weld County Commissioner's Office, 915 10th Street, Greeley, CO 80632 | Dec. 22, 2017 | 080266
Connecticut: New Haven (FEMA Docket No.: B-1762) | City of Meriden (17-01-0418P) | Mr. Guy Scaife, Manager, City of Meriden, 142 East Main Street, Meriden, CT 06450 | Department of Public Works, Engineering Division, 142 East Main Street, Meriden, CT 06450 | Jan. 3, 2018 | 090081
Florida:
Charlotte (FEMA Docket No.: B-1762) | Unincorporated areas of Charlotte County (17-04-4506P) | The Honorable Bill Truex, Chairman, Charlotte County Board of Commissioners, 18500 Murdock Circle, Suite 536, Port Charlotte, FL 33948 | Charlotte County Community Development Department, 18400 Murdock Circle, Port Charlotte, FL 33948 | Dec. 29, 2017 | 120061
Charlotte (FEMA Docket No.: B-1758) | Unincorporated areas of Charlotte County (17-04-5277P) | The Honorable Bill Truex, Chairman, Charlotte County Board of, Commissioners, 18500 Murdock Circle, Port Charlotte, FL 33948 | Charlotte County Community Development Department, 18400 Murdock Circle, Port Charlotte, FL 33948 | Dec. 28, 2017 | 120061
Collier (FEMA Docket No.: 1758) | Unincorporated areas of Collier County (17-04-5062P) | The Honorable Penny Taylor, Chair, Collier County Board of Commissioners, 3299 Tamiami Trail East, Suite 303, Naples, FL 34112 | Collier County Administrative Building, 3301 Tamiami Trail East, Building F, 1st Floor, Naples, FL 34112 | Dec. 14, 2017 | 120067
Lafayette (FEMA Docket No.: 1758) | Unincorporated areas of Lafayette County (17-04-4985P) | The Honorable Ernest Jones, Chairman, Lafayette County Board of Commissioners, P.O. Box 88, Mayo, FL 32066 | Lafayette County Building Department, 120 West Main Street, Mayo, FL 32066 | Dec. 15, 2017 | 120131
Lee (FEMA Docket No.: B-1758) | Town of Fort Myers Beach (17-04-5861P) | The Honorable Dennis C. Boback, Mayor, Town of Fort Myers Beach, 2525 Estero Boulevard, Fort Myers Beach, FL 33931 | Community Development Department, 2525 Estero Boulevard, Fort Myers Beach, FL 33931 | Dec. 26, 2017 | 120673
Manatee (FEMA Docket No.: B-1758) | Unincorporated areas of Manatee County (16-04-8547P) | The Honorable Betsy Benac, Chair, Manatee County Board of Commissioners, P.O. Box 1000, Bradenton, FL 34206 | Manatee County Building and Development Services Department, 1112 Manatee Avenue West, Bradenton, FL 34205 | Dec. 22, 2017 | 120153
Miami-Dade (FEMA Docket No.: B-1758) | City of North Miami (17-04-4598P) | The Honorable Smith Joseph, Mayor, City of North Miami, 776 Northeast 125th Street, 2nd Floor, North Miami, FL 33161 | Building Department, 12340 Northeast 8th Avenue, North Miami, FL 33161 | Dec. 8, 2017 | 120655
Monroe (FEMA Docket No.: B-1762) | Unincorporated areas of Monroe County (17-04-5313P) | The Honorable George Neugent, Mayor, Monroe County Board of Commissioners, 25 Ships Way, Big Pine Key, FL 33043 | Monroe County Building Department, 2798 Overseas Highway, Suite 300, Marathon, FL 33040 | Jan. 2, 2018 | 125129
Monroe (FEMA Docket No.: B-1762) | Unincorporated areas of Monroe County (17-04-5430P) | The Honorable George Neugent, Mayor, Monroe County Board of Commissioners, 25 Ships Way, Big Pine Key, FL 33043 | Monroe County Building Department, 2798 Overseas Highway, Suite 300, Marathon, FL 33040 | Jan. 4, 2018 | 125129
Monroe (FEMA Docket No.: B-1762) | Unincorporated areas of Monroe County (17-04-5774P) | The Honorable George Neugent, Mayor, Monroe County Board of Commissioners, 25 Ships Way, Big Pine Key, FL 33043 | Monroe County Building Department, 2798 Overseas Highway, Suite 300, Marathon, FL 33040 | Jan. 5, 2018 | 125129
Pinellas (FEMA Docket No.: B-1758) | City of St. Pete Beach (17-04-2937P) | The Honorable Alan Johnson, Mayor, City of St. Pete Beach, 155 Corey Avenue, St. Pete Beach, FL 33706 | Building Services Department, 155 Corey Avenue, St. Pete Beach, FL 33706 | Dec. 26, 2017 | 125149
Pinellas (FEMA Docket No.: B-1758) | Town of Indian Shores (17-04-1784P) | The Honorable Patrick Soranno, Mayor, Town of Indian Shores, 19305 Gulf Boulevard, Indian Shores, FL 33785 | Building Department, 19305 Gulf Boulevard, Indian Shores, FL 33785 | Dec. 26, 2017 | 125118
Polk (FEMA Docket No.: B-1762) | Unincorporated areas of Polk County (17-04-0850P) | The Honorable Melony M. Bell, Chair, Polk County Board of Commissioners, P.O. Box 9005, Drawer BC01, Bartow, FL 33831 | Polk County Land Development Division, 330 West Church Street, Bartow, FL 33830 | Jan. 4, 2018 | 120261
Georgia:
Cobb (FEMA Docket No.: B-1748) | City of Kennesaw (17-04-0127P) | The Honorable Derek Easterling, Mayor, City of Kennesaw, 2529 J.O. Stephenson Street, Kennesaw, GA 30144 | Stormwater Division, 3080 Moon Station Road, Kennesaw, GA 30144 | Dec. 4, 2017 | 130055
Cobb (FEMA Docket No.: B-1748) | Unincorporated areas of Cobb County (17-04-0127P) | The Honorable Mike Boyce, Chairman, Cobb County Board of Commissioners, 100 Cherokee Street, Marietta, GA 30090 | Cobb County Stormwater Management Division, 680 South Cobb Drive, Marietta, GA 30060 | Dec. 4, 2017 | 130052
Douglas (FEMA Docket No.: B-1758) | Unincorporated areas of Douglas County (17-04-5176P) | The Honorable Romona Jackson Jones, Chair, Douglas County Board of Commissioners, 8700 Hospital Drive, 3rd Floor, Douglasville, GA 30134 | Douglas County Engineering Division, 8700 Hospital Drive, 1st Floor, Douglasville, GA 30134 | Dec. 28, 2017 | 130306
Iowa: Woodbury (FEMA Docket No.: B-1758) | City of Sioux City (17-07-0805P) | The Honorable Bob Scott, Mayor, City of Sioux City, P.O. Box 447, Sioux City, IA 51102 | Planning Division, 405 6th Street, Room 308, Sioux City, IA 51102 | Dec. 8, 2017 | 190298
Maryland: Independent City (FEMA Docket No.: B-1758) | City of Baltimore (17-03-1132P) | The Honorable Catherine E. Pugh, Mayor, City of Baltimore, 100 North Holliday Street, Baltimore, MD 21202 | Planning Department, 417 East Fayette Street, 8th floor, Baltimore, MD 21202 | Dec. 18, 2017 | 240087
Massachusetts:
Barnstable (FEMA Docket No.: B-1758) | Town of Provincetown (17-01-0821P) | Mr. David Panagore, Manager, Town of Provincetown, 260 Commercial Street, Provincetown, MA 02657 | Town Hall, 260 Commercial Street, Provincetown, MA 02657 | Dec. 15, 2017 | 255218
Plymouth (FEMA Docket No.: B-1758) | Town of Hingham (17-01-0559P) | The Honorable Mary Power, Chair, Town of Hingham Board of Selectmen, 210 Central Street, Hingham, MA 02043 | Conservation Department, 210 Central Street, Hingham, MA 02043 | Dec. 13, 2017 | 250268
Plymouth (FEMA Docket No.: B-1758) | Town of Hull (17-01-0559P) | The Honorable Kevin Richardson, Chairman, Town of Hull Board of Selectmen, 253 Atlantic Avenue, Hull, MA 02045 | Building Department, 253 Atlantic Avenue, Hull, MA 02045 | Dec. 13, 2017 | 250269
Plymouth (FEMA Docket No.: B-1758) | Town of Wareham (17-01-1783P) | Mr. Derek Sullivan, Administrator, Town of Wareham, 54 Marion Road, Wareham, MA 02571 | Town Hall, 54 Marion Road, Wareham, MA 02571 | Dec. 8, 2017 | 255223
Nebraska:
Dakota (FEMA Docket No.: B-1758) | City of South Sioux City (17-07-0805P) | The Honorable Rod Koch, Mayor, City of South Sioux City, 1615 1st Avenue, South Sioux City, NE 68776 | Inspection Services Department, 1615 1st Avenue, South Sioux City, NE 68776 | Dec. 8, 2017 | 310054
Dakota (FEMA Docket No.: B-1758) | Unincorporated areas of Dakota County (17-07-0805P) | The Honorable Scott Love, Chairman, Dakota County Board of Commissioners, P.O. Box 338, Dakota City, NE 68731 | Dakota County Planning and Zoning Department, 1863 North Bluff Road, Hubbard, NE 68741 | Dec. 8, 2017 | 310429
New York:
Rockland (FEMA Docket No.: B-1740) | Town of Ramapo (17-02-0104P) | The Honorable Christopher P. St. Lawrence, Supervisor, Town of Ramapo, 237 State Route 59, Suffern, NY 10901 | Town Hall, 237 State Route 59, Suffern, NY 10901 | Dec. 7, 2017 | 365340
Rockland (FEMA Docket No.: B-1740) | Village of Spring Valley (17-02-0104P) | The Honorable Demeza Delhomme, Mayor, Village of Spring Valley, 200 North Main Street, Spring Valley, NY 10977 | Village Hall, 200 North Main Street, Spring Valley, NY 10977 | Dec. 7, 2017 | 365344
North Carolina:
Alamance (FEMA Docket No.: B-1770) | Unincorporated areas of Alamance County (16-04-8173P) | The Honorable Eddie Boswell, Chairman, Alamance County Board of Commissioners, 124 West Elm Street, Graham, NC 27253 | Alamance County Planning Department, 215 N. Graham-Hopedale Road, Burlington, NC 27217 | Nov. 20, 2017 | 370001
Surry (FEMA Docket No.: B-1758) | Unincorporated areas of Surry County (17-04-4112P) | The Honorable Eddie Harris, Chairman, Surry County Board of Commissioners, 118 Hamby Road, Dobson, NC 27017 | Surry County Planning and Development, Department, 122 Hamby Road, Dobson, NC 27017 | Dec. 1, 2017 | 370364
Surry (FEMA Docket No.: B-1758) | Unincorporated Areas of Surry County (17-04-4113P) | The Honorable Eddie Harris, Chairman, Surry County Board of Commissioners, 118 Hamby Road, Dobson, NC 27017 | Surry County Planning and Development Department, 122 Hamby Road, Dobson, NC 27017 | Jan. 4, 2018 | 370364
Wake (FEMA Docket No.: B-1758) | City of Raleigh (16-04-2709P) | The Honorable Nancy McFarlane, Mayor, City of Raleigh, P.O. Box 590, Raleigh, NC 27602 | Stormwater Management Division, 1 Exchange Plaza, Suite 304, Raleigh, NC 27601 | Dec. 7, 2017 | 370243
Pennsylvania:
Bucks (FEMA Docket No.: B-1758) | Township of Buckingham (17-03-0837P) | The Honorable Maggie Rash, Chair, Township of Buckingham, Board of Supervisors, P.O. Box 413, Buckingham, PA 18912 | Township Building, 4613 Hughesian Drive, Buckingham, PA 18912 | Jan. 4, 2018 | 420985
Centre (FEMA Docket No.: B-1758) | Borough of Bellefonte (17-03-0534P) | The Honorable Gay D. Dunne, President, Borough of Bellefonte Council, 236 West Lamb Street, Bellefonte, PA 16823 | Borough Hall, 236 West Lamb Street, Bellefonte, PA 16823 | Dec. 5, 2017 | 420257
South Carolina:
Charleston (FEMA Docket No.: B-1758) | Town of Mount Pleasant (17-04-5432P) | The Honorable Linda Page, Mayor, Town of Mount Pleasant, 100 Ann Edwards Lane, Mount Pleasant, SC 29464 | Planning Department, 100 Ann Edwards Lane, Mount Pleasant, SC 29464 | Dec. 20, 2017 | 455417
Charleston (FEMA Docket No.: B-1758) | Unincorporated areas of Charleston County (17-04-5432P) | The Honorable A. Victor Rawl, Chairman, Charleston County Council, 4045 Bridge View Drive, Suite B254, North Charleston, SC 29405 | Building Inspection Services Department, 4045 Bridgeview Drive, Suite A311, North Charleston, SC 29405 | Dec. 20, 2017 | 455413
Tennessee: Shelby (FEMA Docket No.: B-1758) | City of Memphis (17-04-2464P) | The Honorable Jim Strickland, Mayor, City of Memphis, 125 North Main Street, Room 700, Memphis, TN 38103 | Engineering Division, 125 North Main Street, Room 677, Memphis, TN 38103 | Dec. 27, 2017 | 470177
Texas:
Bexar (FEMA Docket No.: B-1758) | City of San Antonio (17-06-2618P) | The Honorable Ron Nirenberg, Mayor, City of San Antonio, P.O. Box 839966, San Antonio, TX 78283 | Transportation and Capital Improvements Department, Stormwater Division, 1901 South Alamo Street, 2nd Floor, San Antonio, TX 78204 | Dec. 14, 2017 | 480045
Bexar (FEMA Docket No.: B-1762) | City of San Antonio (17-06-3073P) | The Honorable Ron Nirenberg, Mayor, City of San Antonio, P.O. Box 839966, San Antonio, TX 78283 | Transportation and Capital Improvements Department, Storm Water Division, 1901 South Alamo Street, 2nd Floor, San Antonio, TX 78204 | Jan. 5, 2018 | 480045
Collin (FEMA Docket No.: B-1758) | City of Celina (17-06-1207P) | The Honorable Sean Terry, Mayor, City of Celina, 142 North Ohio Street, Celina, TX 75009 | City Hall, 142 North Ohio Street, Celina, TX 75009 | Jan. 2, 2018 | 480133
Collin (FEMA Docket No.: B-1758) | City of Celina (17-06-2118P) | The Honorable Sean Terry, Mayor, City of Celina, 142 North Ohio Street, Celina, TX 75009 | City Hall, 142 North Ohio Street, Celina, TX 75009 | Dec. 18, 2017 | 480133
Collin (FEMA Docket No.: B-1762) | City of Wylie (17-06-1285P) | The Honorable Eric Hogue, Mayor, City of Wylie, 300 Country Club Road, Building 100, Wylie, TX 75098 | City Hall, 300 Country Club Road, Building 100, Wylie, TX 75098 | Jan. 4, 2018 | 480759
Collin (FEMA Docket No.: B-1762) | Unincorporated areas of Collin County (17-06-1140P) | The Honorable Keith Self, Collin County Judge, 2300 Bloomdale Road, Suite 4192, McKinney, TX 75071 | Collin County Engineering Department, 4690 Community Avenue, Suite 200, McKinney, TX 75071 | Dec. 11, 2017 | 480130
Dallas (FEMA Docket No.: B-1762) | City of Dallas (17-06-1022P) | The Honorable Michael Rawlings, Mayor, City of Dallas, 1500 Marilla Street, Suite 5EN, Dallas, TX 75201 | Engineering Department, 320 East Jefferson Boulevard, Room 200, Dallas, TX 75201 | Dec. 4, 2017 | 480171
Dallas (FEMA Docket No.: B-1762) | City of Garland (17-06-0906P) | The Honorable Douglas Athas, Mayor, City of Garland, 200 North 5th Street, Garland, TX 75040 | Municipal Building, 800 Main Street, Garland, TX 75040 | Dec. 18, 2017 | 485471
Dallas (FEMA Docket No.: B-1762) | City of Sachse (17-06-0906P) | The Honorable Mike Felix, Mayor, City of Sachse, 3815 Sachse Road, Building B, Sachse, TX 75048 | Public Works Department, 3815 Sachse Road, Building B, Sachse, TX 75048 | Dec. 18, 2017 | 480186
Harris (FEMA Docket No.: B-1748) | City of Baytown (17-06-2837P) | The Honorable Stephen DonCarlos, Mayor, City of Baytown, 2401 Market Street, Baytown, TX 77520 | Engineering Department, 2123 Market Street, Baytown, TX 77520 | Dec. 8, 2017 | 485456
Harris (FEMA Docket No.: B-1758) | Unincorporated areas of Harris County (17-06-3378P) | The Honorable Edward M. Emmett, Harris County Judge, 1001 Preston Street, Suite 911, Houston, TX 77002 | Harris County Permit Office, 10555 Northwest Freeway, Suite 120, Houston, TX 77092 | Dec. 11, 2017 | 480287
Kendall (FEMA Docket No.: B-1762) | City of Boerne (17-06-1075P) | Mr. Ronald Bowman, Manager, City of Boerne, 402 East Blanco Road, Boerne, TX 78006 | Code Enforcement Division, 402 East Blanco Road, Boerne, TX 78006 | Dec. 26, 2017 | 480418
Kendall (FEMA Docket No.: B-1762) | Unincorporated areas of Kendall County (17-06-1075P) | The Honorable Darrel L. Lux, Kendall County Judge, 201 East San Antonio Avenue, Suite 122, Boerne, TX 78006 | Kendall County Engineering Department, 201 East San Antonio Avenue, Suite 101, Boerne, TX 78006 | Dec. 26, 2017 | 480417
Lubbock (FEMA Docket No.: B-1758) | City of Lubbock (17-06-2588P) | The Honorable Dan Pope, Mayor, City of Lubbock, P.O. Box 2000, Lubbock, TX 79457 | Public Works Department, 1625 13th Street, Room 107, Lubbock, TX 79401 | Dec. 18, 2017 | 480452
Lubbock (FEMA Docket No.: B-1758) | City of Lubbock (17-06-2768P) | The Honorable Dan Pope, Mayor, City of Lubbock, P.O. Box 2000, Lubbock, TX 79457 | Public Works Department, 1625 13th Street, Room 107, Lubbock, TX 79401 | Dec. 18, 2017 | 480452
Montgomery (FEMA Docket No.: B-1758) | City of Conroe (17-06-2714X) | The Honorable Toby Powell, Mayor, City of Conroe, P.O. Box 3066, Conroe, TX 77305 | Public Works Department, 401 Sergeant Ed Holcomb Boulevard South, Conroe, TX 77304 | Dec. 1, 2017 | 480484
Tarrant (FEMA Docket No.: B-1758) | City of Fort Worth (17-06-0577P) | The Honorable Betsy Price, Mayor, City of Fort Worth, 1000 Throckmorton Street, Fort Worth, TX 76102 | Transportation and Public Works Department, 1000 Throckmorton Street, Fort Worth, TX 76102 | Dec. 11, 2017 | 480596
Tarrant (FEMA Docket No.: B-1758) | City of Fort Worth (17-06-1457P) | The Honorable Betsy Price, Mayor, City of Fort Worth, 1000 Throckmorton Street, Fort Worth, TX 76102 | Transportation and Public Works Department, 1000 Throckmorton Street, Fort Worth, TX 76102 | Dec. 18, 2017 | 480596
Tarrant (FEMA Docket No.: B-1762) | City of Fort Worth (17-06-2042P) | The Honorable Betsy Price, Mayor, City of Fort Worth, 200 Texas Street, Fort Worth, TX 76102 | Transportation and Public Works Department, 200 Texas Street, Fort Worth, TX 76102 | Jan. 4, 2018 | 480596
Tarrant (FEMA Docket No.: B-1758) | City of North Richland Hills (17-06-0350P) | The Honorable Oscar Trevino, Jr., Mayor, City of North Richland Hills, 4301 City Point Drive, North Richland Hills, TX 76180 | Administration and Engineering Department, 4301 City Point Drive, North Richland Hills, TX 76180 | Dec. 11, 2017 | 480607

[FR Doc. 2018-03573 Filed 2-21-18; 8:45 am]

BILLING CODE 9110-12-P